DEPARTMENT OF VETERANS AFFAIRS

Advisory Committee: National Academic Affiliations Council Notice of Meeting

The Department of Veterans Affairs (VA) gives notice under the Federal Advisory Committee Act, 5 U.S.C. App. 2 that a meeting of the National Academic Affiliations Council will be held November 29, 2016—November 30, 2016 in the VA Boston Healthcare System's Barsamian Auditorium, Room 3C-108-1, 1400 VFW Parkway, West Roxbury, MA 02132. The November 29, 2016 session will begin at 9:00 a.m. and end at 4:30 p.m. The November 30, 2016 session will begin at 9 a.m. and adjourn at 11:45 a.m. The meeting is open to the public, except when the Council is conducting tours of the VA facility. Tours of VA facilities are closed to the public, to protect Veterans' privacy and personal information, in accordance with 5 U.S.C. 552b(c)(6).

The purpose of the Council is to advise the Secretary on matters affecting partnerships between VA and its academic affiliates.

On November 29, 2016, the Council will receive updates on VA's educational portfolio and patient aligned care team (PACT) concept. Following these presentations, the Council will convene in a closed session, as it tours the VA Boston Healthcare System's West Roxbury campus. The Council will reconvene in open session to host a town hall style event focused on PACT implementation. The town hall meeting will begin at 11:15 a.m. and end promptly at 12:15 p.m. Additional agenda items include a discussion on VA's efforts to implement innovative academic relationships and collaboration, an overview of the VA National Nursing Academy, and a presentation on the Northeast Region VA Nursing Alliance. On November 30, 2016, the Council will receive an update on the graduate medical education expansion initiative authorized under Public Law 113-146 and host a faculty development showcase sponsored by the VA Boston Healthcare System. The Council will receive public comments from 4:15 p.m. to 4:30 p.m. on November 29, 2016 and again from 11:30 a.m. to 11:45 a.m. on November 30, 2016.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, Steve.Trynosky@va.gov , or by mail to Stephen K. Trynosky JD, MPH, MMAS, Designated Federal Officer, Office of Academic Affiliations (10A2D), 810 Vermont Avenue NW Washington, DC 20420. Any member of the public wishing to attend or seeking additional information should contact Mr. Trynosky via email or by phone at (202) 461-6723. Because the meeting will be in a Government building, anyone attending must be prepared to show a valid photo I.D. Please allow 15 minutes before the meeting begins for this process.

Dated: November 3, 2016.
Jelessa M. Burney,
Federal Advisory Committee Management Officer.

[FR Doc. 2016-26953 Filed 11-7-16; 8:45 am]

BILLING CODE P